DEPARTMENT OF THE TREASURY

Submission for OMB review; comment request

June 1, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 10, 2000, to be assured of consideration.

Internal Revenue Service (IRS)

OMB Number: 1545-0169.

Form Number: IRS Forms 4461, 4461-A and 4461-B.

Type of Review: Extension.

Title: Application for Approval of Master or Prototype Defined Contribution Plan (4461); Application for Approval of Master or Prototype Defined Benefit Plan (4461-A); and Application for Approval of Master or Prototype Plan, Mass Submitter Adopting Sponsor (4461-B).

Description: The IRS uses these forms to determine from the information submitted whether the applicant plan qualifies under section 401(a) of the Internal Revenue Code for plan approval. The application is also used to determine if the related trust qualifies for tax exempt status under Code section 501(a).

Respondents: Business or other for-profit.

Estimated Number of Respondents/Recordkeepers: 1,000.

Estimated Burden Hours Per Respondent/Recordkeeper:.

Form | Recordkeeping | Learning about the law or the form | Preparing the form | Copying, assembling, and sending the form to the IRS
4461 | 43 hr., 17 min | 6 hr., 44 min | 8 hr., 40 min | 16 min.
4461-A | 42 hr., 34 min | 6 hr., 2 min | 7 hr., 55 min | 16 min.
4461-B | 5 hr., 59 min | 52 min | 1 hr., 56 min | 16 min.

Frequency of Response: On occasion.

Estimated Total Reporting/Recordkeeping Burden: 109,388 hours.

OMB Number: 1545-1418.

Regulation Project Number: REG-119227-97 Final and Temporary).

Type of Review: Extension.

Title: Kerosene Tax; Aviation Fuel Tax; Taxable Fuel Measurement and Reporting; Tax on Heavy Trucks and Trailers; Highway Vehicle Use Tax.

Description: The regulation finalizes proposed and temporary regulations relating to the tax on kerosene, the refund for certain aviation fuel producers, and the registration rules for certain truck dealers.

Respondents: Business or other for-profit.

Estimated Number of Respondents/Recordkeepers: 346,080.

Estimated Burden Hours Per Respondent/Recordkeeper: 17 minutes.

Frequency of Response: On occasion.

Estimated Total Reporting/Recordkeeping Burden: 97,583 hours.

OMB Number: 1545-1504.

Form Number: IRS Form 911.

Type of Review: Extension.

Title: Application for Taxpayer Assistance Order (ATAO).

Description: This form is used by taxpayers to apply for relief from a significant hardship which may have already occurred or is about to occur if the IRS takes or fails to take certain actions. This form is submitted to the IRS Taxpayer Advocate Office in the state or city where the taxpayer lives.

Respondents: Individuals or households, business or other for-profit, not-for-profit institutions, farms, State, Local or Tribal Government.

Estimated Number of Respondents: 93,000.

Estimated Burden Hours Per Respondent/Recordkeeper: 30 minutes.

Frequency of Response: On occasion.

Estimated Total Reporting/Recordkeeping Burden: 34,960 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-14411 Filed 6-7-00; 8:45 am]

BILLING CODE 4830-01-U